DEPARTMENT OF COMMERCE

International Trade Administration

Proposed Collection; Comment Request

TITLE: Non-Tariff Barriers Survey.

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before February 12, 2001.

ADDRESSES: Direct all written comments to Madeleine Clayton, Departmental Forms, Clearance Officer, (202) 482-3129, Email MClayton@doc.gov., Department of Commerce, Room 6086, 14th & Constitution Avenue, NW., Washington, DC 20230.

FOR FURTHER INFORMATION CONTACT: Request for additional information or copies of the information collection instrument and instructions should be directed to: Mary Rhody, Trade Development, Office of Environmental Technologies Industries (ETI), Room 1003; U.S. Department of Commerce, 14th & Constitution Ave., NW, Washington, DC 20230; Phone number: (202) 482-5225.

SUPPLEMENTARY INFORMATION:

I. Abstract

The International Trade Administration's Office of Environmental Technologies Industries (ETI) office is the principal resource and key contact point within the U.S. Department of Commerce for American environmental technology companies. ETI's goal is to facilitate and increase exports of environmental technologies, goods and services by providing support and guidance to U.S. exporters. One aspect of increasing exports is to reduce trade barriers and non-tariff measures. ETI works closely with the Office of the U.S. Trade Representative on trade negotiations and trade liberalization initiatives. The information collected by this survey will be used to support these projects and enable ETI to maintain a current, up-to-date list of non-tariff measures that create trade barriers for U.S. exports of environmental goods and services.

II. Method of Collection

Electronic submission to the International Trade Administration's Office of Environmental Technologies Industries.

III. Data

OMB Number: None.

Form Number: None.

Type of Review: Regular Submission.

Affected Public: Business or other for profit.

Estimated Number of Respondents: 200.

Estimated Time Per Response: 10 minutes.

Estimated Total Annual Burden Hours: 33 hours.

Estimated Total Annual Costs: $12,000 (Government $5,000, Respondents $7,000).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: December 8, 2000.
Madeleine Clayton,
Departmental Forms Clearance Officer, Office of the Chief Information Officer.

[FR Doc. 00-31806 Filed 12-13-00; 8:45 am]

BILLING CODE 3510-DR-P